DEPARTMENT OF JUSTICE

[OMB Number 1105-0085]

Agency Information Collection Activities: Collection; Comments Requested; Application for Approval as a Provider of a Personal Financial Management Instructional Course

ACTION: 30-Day notice of application under review.

The Department of Justice, Executive Office for United States Trustees, has submitted the following application to the Office of Management and Budget (OMB) for review and clearance in accordance with the Paperwork Reduction Act of 1995. The application is published to obtain comments from the public and affected agencies. This application was previously published in the Federal Register Volume 77, Number 106, page 32671, on June 1, 2012, allowing for a 60-day comment period.

The purpose of this notice is to allow for an additional 30 days for public comment until September 6, 2012. This process is conducted in accordance with 5 CFR 1320.10.

Written comments and suggestions regarding the items contained in this notice, especially the estimated public burden and associated response time, should be directed to the Office of Management and Budget, Office of Information and Regulatory Affairs, Attention: Department of Justice Desk Officer, Washington, DC 20503. Additionally, comments may be submitted to OMB via facsimile to (202) 395-7285.

Written comments and suggestions from the public and affected agencies concerning the application are encouraged. Your comments should address one or more of the following four points:

1. Evaluate whether the application is necessary for the proper performance of the functions of the agency, including whether the information will have practical utility;

2. Evaluate the accuracy of the agency's estimate of the burden of the collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of the Information

Type of information collection: | Application form.
The title of the form/collection: | Application for Approval as a Provider of a Personal Financial Management Instructional Course.
The agency form number, if any, and the applicable component of the department sponsoring the collection: | No form number. Executive Office for United States Trustees, Department of Justice.
Affected public who will be asked or required to respond, as well as a brief abstract: | Primary: Individuals who wish to offer instructional courses to student debtors concerning personal financial management. Other: None. Congress passed a bankruptcy law that requires individuals who file for bankruptcy to complete an approved personal financial management instructional course as a condition of receiving a discharge.
An estimate of the total number of respondents and the amount of time estimated for an average respondent to respond/reply: | It is estimated that 275 respondents will complete the application in approximately five (5) hours.
An estimate of the total public burden (in hours) associated with the collection: | The estimated total annual public burden associated with this application is 1,375 hours.

If additional information is required, contact: Jerri Murray, Department Clearance Officer, United States Department of Justice, Justice Management Division, Policy and Planning Staff, Two Constitution Square, 145 N Street NE., Washington, DC 20530.

Dated: August 1, 2012.
Jerri Murray,
Department Clearance Officer, U.S. Department of Justice.

[FR Doc. 2012-19227 Filed 8-6-12; 8:45 am]

BILLING CODE 4410-40-P